DEPARTMENT OF JUSTICE

Antitrust Division

Notice Pursuant to the National Cooperative Research and Production Act of 1993—National Board for Certification in Occupational Therapy, Inc.

Notice is hereby given that, on September 21, 2004, pursuant to section 6(a) of the National Cooperative Research and Production Act of 1993, 15 U.S.C. 4301 et seq. (“the Act”), National Board for Certification in Occupational Therapy, Inc. (“NBCOT”) has filed written notifications simultaneously with the Attorney General and the Federal Trade Commission disclosing (1) the name and principal place of business of the standards development organization and (2) the nature and scope of this standards development activities. The notifications were filed for the purpose of invoking the Act's provisions limiting the recovery of antitrust plaintiffs to actual damages under specified circumstances.

Pursuant to section 6(b) of the Act, the name and principal place of business of the standards development organization is: National Board for Certification in Occupational Therapy, Inc., Gaithersburg, MD. The nature and scope of NBCOT's standards development activities are: the development, administration, and continual review of a certification process based on current and valid standards that provide reliable indicators of competence for the practice of occupational therapy.

Dorothy B. Fountain,
Deputy Director of Operations, Antitrust Division.

[FR Doc. 05-1981 Filed 2-1-05; 8:45 am]

BILLING CODE 4410-11-M